NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: June 29, 2009, 8:30 a.m.-5:30 p.m. June 30, 2009, 8:30 a.m.-2 p.m.

Place: National Science Foundation (NSF), 4201 Wilson Boulevard, Room 1235 Arlington, VA 22230.

To help facilitate your access into the building, please contact the individual listed below prior to the meeting so that a visitors badge may be prepared for you in advance.

Type of Meeting: Open.

Contact Person: Dr. Margaret E.M. Tolbert, Senior Advisor and CEOSE Executive Liaison, Office of Integrative Activities, National Science Foundation, 4201 Wilson Boulevard, Arlington, VA 22230.

Telephone Numbers: (703) 292-4216, (703) 292-8040, mtolbert@nsf.gov.

Minutes: Minutes may be obtained from the Executive Liaison at the above address or the Web site at http://www.nsf.gov/od/oia/activities/ceose/index.jsp.

Purpose of Meeting: To study NSF programs and policies and provide advice and recommendations concerning broadening participation in science and engineering.

Agenda

Monday, June 29, 2009

Opening Statement by the CEOSE Chair.

Presentations and Discussions:

✓ The Intersection of Science and Engineering with Diversity and Inclusion;

✓ Women and Underrepresented Minorities in STEM: a Science Policy Perspective;

✓ A Conversation with the Deputy Director of the National Science Foundation;

✓ Plans for the CEOSE Mini-Symposium on Women of Color in Science and Engineering;

✓ Key Points from the “Understanding Interventions that Broaden Participation in Research Careers Conference”;

✓ Race, Gender, Ethnicity, and Disability in China—A CEOSE Member's Perspective;

✓ The 2007-2008 CEOSE Biennial Report to Congress;

✓ Concurrent Meetings of CEOSE Ad Hoc Subcommittees;

✓ Reports by Ad Hoc Subcommittee Chairs.

Tuesday, June 30, 2009

Opening Statement by the CEOSE Chair.

Presentations and Discussions:

✓ NSF Program Management Curriculum, Program Directors' Seminar With a Focus on Broadening Participation Aspects;

✓ Broadening Participation at the National Science Foundation and the Impact of the American Recovery and Reinvestment Act and America Competes Act;

✓ Reports by CEOSE Liaisons to Various NSF Advisory Committees;

✓ Completion of Unfinished Business.

Dated: June 9, 2009.
Susanne Bolton,
Committee Management Officer.

[FR Doc. E9-13842 Filed 6-11-09; 8:45 am]

BILLING CODE 7555-01-P